ENVIRONMENTAL PROTECTION AGENCY

[FRL-9796-4]

Notification of Public Meeting and a Public Teleconference of the Hydraulic Fracturing Research Advisory Panel

AGENCY: Environmental Protection Agency (EPA).

ACTION: Notice.

SUMMARY: The Environmental Protection Agency (EPA) Science Advisory Board (SAB) Staff Office announces a public meeting and public teleconference of the Hydraulic Fracturing Research Advisory Panel to provide an opportunity for independent expert members of the ad hoc Panel to provide comment on EPA's Study of the Potential Impacts of Hydraulic Fracturing on Drinking Water Resources: Progress Report, which was released in December 2012. The meeting will also begin a broader commitment to provide opportunities to brief the panel on the last scientific and technical developments in this emerging topic area.

DATES: The public meeting will be held on Tuesday, May 7, 2013, from 9:30 a.m. to 6:00 p.m. and Wednesday, May 8, 2013, from 8:00 a.m. to 6:00 p.m. (Eastern Daylight Time). The public teleconference will be held on May 16, 2013, from 1:00 p.m. to 5:00 p.m. (Eastern Daylight Time).

ADDRESSES: The public meeting will be held at the Westin Arlington Gateway Hotel located at 801 North Glebe Road, Arlington, VA, 22203. The public teleconference will be conducted by telephone only. The public can also view the May 7-8, 2013 meeting via a non-interactive webcast that will be broadcast on the internet. The connection information to view the meeting via webcast will be provided on the SAB Web site at http://www.epa.gov/sab in advance of the meeting.

FOR FURTHER INFORMATION CONTACT: Any member of the public who wants further information concerning the teleconference and meeting may contact Mr. Edward Hanlon, Designated Federal Officer (DFO), EPA Science Advisory Board (1400R), U.S. Environmental Protection Agency, 1200 Pennsylvania Avenue NW., Washington, DC 20460; via telephone/voicemail at (202) 564-2134, fax at (202) 565-2098; or email at hanlon.edward@epa.gov. General information concerning the SAB can be found on the EPA Web site at http://www.epa.gov/sab.

SUPPLEMENTARY INFORMATION: Background: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public meeting and public teleconference to receive public comments and to provide an opportunity for independent expert members of the SAB Panel to discuss, deliberate, and provide comment on the topics below.

In response to public concern, Congress directed EPA to study the relationship between hydraulic fracturing and drinking water. In 2011, EPA's Office of Research and Development (ORD) published its Plan to Study the Potential Impacts of Hydraulic Fracturing on Drinking Water Resources. EPA has requested comment from individual ad hoc panel members on its Study of the Potential Impacts of Hydraulic Fracturing on Drinking Water Resources as well as plan future potential activities of the panel. The Progress Report describes the status of EPA's ongoing research on the potential impacts of hydraulic fracturing on drinking water resources.

On August 21, 2012, the SAB Staff Office requested public nominations of experts to serve on a Panel to advise the Agency on EPA's ongoing research on the potential impacts of hydraulic fracturing on drinking water resources (77 FR 50505—50506). On November 27, 2012, the SAB Staff Office posted a notice on the SAB Web site inviting public comments by December 19, 2012, on candidates for the Panel. Information about formation of the Panel can be found at http://yosemite.epa.gov/sab/sabproduct.nsf/02ad90b136fc21ef85256eba00436459/b436304ba804e3f885257a5b00521b3b!OpenDocument&TableRow=2.1#2.

The purpose of the May 7-8, 2013, meeting is for individual members of the Panel to provide expert comments on charge questions associated with the research described in EPA's Progress Report. The purpose of the May 16, 2013, teleconference is to provide additional opportunity for members of the public to submit relevant oral statements on EPA documents for consideration by the Panel.

Also, periodic opportunities for the public to provide additional input for consideration by the Panel will be provided after the May 7-8, 2013 public meeting and May 16, 2013 public teleconference call.

Availability of Meeting Materials: The agenda and other materials in support of the meeting and teleconference call will be available on the SAB Web site at http://www.epa.gov/sab in advance of the meeting and teleconference call.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments for consideration by the Panel. Input from the public to the SAB will have the most impact if it provides specific scientific or technical information or analysis for the SAB to consider or if it relates to the clarity or accuracy of the technical information. Members of the public wishing to provide comment should contact the DFO directly.

Oral Statements: In general, individuals or groups requesting an oral presentation at a public meeting will be limited to five minutes. Persons interested in providing oral statements at the May 7-8, 2013, meeting should contact Mr. Hanlon at the contact information provided above by April 30, 2013. If there is insufficient time during the May 7-8, 2013 public meeting call to allow all scheduled public speakers to provide oral statements, those scheduled public speakers who could not provide oral statements during the May 7-8, 2013 public meeting will be provided opportunity to present their oral statements during a teleconference call scheduled to occur on May 16, 2013.

Written Statements: Written statements for the May 7-8, 2013, meeting and May 16, 2013, teleconference call should be received in the SAB Staff Office by April 30, 2013, so that the information may be made available to the SAB for its consideration prior to this meeting and teleconference call. Written statements should be supplied to the DFO in the following formats: either an electronic copy (preferred), via email (acceptable file format: Adobe Acrobat PDF, MS Word, WordPerfect, MS PowerPoint, or Rich Text files in IBM-PC/Windows 98/2000/XP format), or in hard copy. Submitters are asked to provide electronic versions of each document submitted without signatures, because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Hanlon, at the phone number or email address noted above, preferably at least ten days prior to the meeting and teleconference call, to give the EPA as much time as possible to process your request.

Dated: March 25, 2013.
Thomas H. Brennan,
Deputy Director, Science Advisory Board Staff Office.

[FR Doc. 2013-07992 Filed 4-4-13; 8:45 am]

BILLING CODE 6560-50-P